DEPARTMENT OF THE INTERIOR

Bureau of Land Management

[CA 660-05-1330-EP]

Proposed Otay Hills Quarry Project

AGENCY: Bureau of Land Management, Interior.

ACTION: Notice of intent to prepare a joint Environmental Impact Statement (EIS) and Environmental Impact (EIR).

SUMMARY: In compliance with the National Environmental Policy Act (NEPA) of 1969, 40 CFR 1508.22, and the California Environmental Quality Act (CEQA), notice is herby given that the Bureau of Land Management (BLM) and the San Diego County Department of Planning and Land Use (DPLU) intend to prepare a joint Environmental Impact Statement (EIS) and Environmental Impact Report (EIR) for the proposed development of a rock quarry on private land and federal mineral estate. The proposed EIS/EIR will describe and analyze alternatives for a proposed operation to extract construction aggregates on a 210-acre site in the foothills of Otay Mountain, San Diego County, California.

DATES: This notice initiates the public scoping process. Comments on issues may be submitted in writing to the address listed below. Additionally, public meetings will be held to encourage public input. All public meetings will be announced through the local news media, newspapers, and the BLM Web site (http://www.ca.blm.gov/palmsprings) at least 15 days prior to the event. Additional opportunities for public participation will be provided upon publication of the draft EIS/EIR.

ADDRESSES: Comments should be sent to Greg Hill, Otay Hills Project, Bureau of Land Management, 690 W. Garnet Ave., P.O. Box 581260, North Palm Springs, CA 92258 or by fax at (760) 251-4899, or by e-mail at gchill@ca.blm.gov. Documents pertinent to this proposal, including comments with the names and addresses of respondents, will be available for public review at the BLM Palm Springs-South Coast Field Office located at 690 W. Garnet Avenue, North Palm Springs, California, during regular business hours of 7:45 a.m. to 4:30 p.m., Monday through Friday, except holidays, and may be published as part of the EIS/EIR. Individual respondents may request confidentiality. If you wish to withhold your name or street address from public review or from disclosure under the Freedom of Information Act, you must state this prominently at the beginning of your written comment. Such requests will be honored to the extent allowed by law. BLM will not consider anonymous comments. All submissions from organizations and businesses, and from individuals identifying themselves as representatives or officials of organizations or businesses, will be available for public inspection in their entirety.

FOR FURTHER INFORMATION CONTACT: For further information and/or to have your name added to our mailing list, contact Greg Hill, Otay Hills Project, Bureau of Land Management, Palm Springs-South Coast Field Office, (760) 251-4840, or by e-mail at gchill@ca.blm.gov.

SUPPLEMENTARY INFORMATION: Superior Ready Mix Company proposes to mine rock for the production of construction aggregates on their property on Otay Mesa, in southwestern San Diego County. The extraction area includes 15 acres of land for which the mineral rights (federal split estate) are held by the United States and administered by the Bureau of Land Management (BLM). Additionally, the project site lies within the boundary of the San Diego County Multiple Species Conservation Program (MSCP) Subarea Plan and will require a Major amendment to said plan through the United States Fish and Wildlife Service (USFWS) and the California Department of Fish and Game (CDFG). The site is 2.5 miles north east of the Otay Mesa International Border Crossing, approximately ¼ mile north of the intersection of Alta Road and Otay Mesa Road. The proposed rock quarry operations will include phased recovery of rock resources, materials processing, concrete batch plant, cement treated base plant, asphalt batch plant, and recycling of asphalt and concrete products. Operations are expected to last approximately 50 years. The total anticipated production of the extraction operations is estimated to be 50 million tons (~25 million cubic yards). Approximately seven million tons is proposed to be extracted from the Federal mineral estate. These Federal mineral materials are proposed to be disposed of in accordance with the 1947 Materials Act (61 Stat. 681) and the Federal mineral materials disposal regulations at 43 CFR part 3600. Total annual production amounts are anticipated to be between 0.6-1.0 million tons of aggregate. The proposed project would generate approximately 460 round trip truck trips per day. The project would also create biological preserve areas prior to extraction. Due to the long-term nature of the extraction activities on the project site, ongoing extraction and reclamation would occur consecutively. As final slopes are graded, these areas would be reclaimed in accordance with reclamation objectives. Reclamation of the site includes the creation of a nearly level pad up to 165 acres in size and an open space easement along the eastern portion of the site. Potential end land uses must be consistent with San Diego County's East Otay Mesa Specific Plan which governs land use on the project site. Two likely uses compatible with the underlying plan and zoning designations for the site include residential development and/or mixed industrial development. The project alternatives are: (A) Proposed Action (210-acre rock quarry, materials processing, batch plants, and recycling of asphalt and concrete products) (B) Reduced Footprint (80-acre rock quarry, materials processing, batch plants, and recycling of asphalt and concrete products) (C) No Build/No Project (Two Scenarios): No Build Alternative would set the baseline environmental setting for the site and would assume that this area will remain undeveloped; No Project Alternative would assume that the site would be developed per the existing land uses approved with the East Otay Mesa Specific Plan.

Dated: March 2, 2005.
Gail Acheson,
Field Manager, Palm Springs-South Coast Field Office.

[FR Doc. 05-10261 Filed 5-23-05; 8:45 am]

BILLING CODE 4310-40-P